DEPARTMENT OF HEALTH AND HUMAN SERVICES

Meeting of the Tick-Borne Disease Working Group

AGENCY: Office of HIV/AIDS and Infectious Disease Policy, Office of the Assistant Secretary for Health, Office of the Secretary, Department of Health and Human Services.

ACTION: Notice.

SUMMARY: The Department of Health and Human Services (HHS) announces the seventh meeting of the Tick-Borne Disease Working Group (Working Group) on July 24, 2018, from 10:00 a.m. to 4:00 p.m., Eastern Time. The seventh meeting will be an on-line meeting held via webcast. The Working Group will review and vote on the content of the five chapters that will be included in the Working Group's Report to Congress.

DATES: The on-line meeting will be held on July 24, 2018, from 10:00 a.m. to 4:00 p.m. Eastern Time.

ADDRESSES: This will be an on-line meeting that is held via webcast. Members of the public may attend the meeting via webcast. Instructions for attending this virtual meeting will be posted prior to the meeting at: https://www.hhs.gov/ash/advisory-committees/tickbornedisease/meetings/index.html.

FOR FURTHER INFORMATION CONTACT: James Berger, Office of HIV/AIDS and Infectious Disease Policy, Office of the Assistant Secretary for Health, Department of Health and Human Services; via email at tickbornedisease@hhs.gov or by phone at 202-795-7697.

SUPPLEMENTARY INFORMATION: The Working Group invites public comment on issues related to the Working Group's charge. Comments may be provided over the phone during the meeting or in writing. Persons who wish to provide comments by phone should review directions at https://www.hhs.gov/ash/advisory-committees/tickbornedisease/meetings/index.html before submitting a request via email at tickbornedisease@hhs.gov on or before July 19, 2018. Phone comments will be limited to three minutes each to accommodate as many speakers as possible. A total of 30 minutes will be allocated to public comments. If more requests are received than can be accommodated, speakers will be randomly selected. The nature of the comments will not be considered in making this selection. Public comments may also be provided in writing. Individuals who would like to provide written comment should review directions at https://www.hhs.gov/ash/advisory-committees/tickbornedisease/meetings/index.html before sending their comments to tickbornedisease@hhs.gov on or before July 19, 2018.

During the meeting, the Working Group will review and vote on the content of the five draft chapters that will be included in the Working Group's Report to Congress. Persons who wish to receive the draft chapters should email the tickbornedisease@hhs.gov and request a copy. The chapters will be available prior to the meeting.

Background and Authority: The Tick-Borne Disease Working Group was established on August 10, 2017, in accordance with section 2062 of the 21st Century Cures Act, and the Federal Advisory Committee Act, 5 U.S.C. App., as amended, to provide expertise and review all HHS, DoD and VA efforts related to tick-borne diseases to help ensure interagency coordination and minimize overlap, examine research priorities, and identify and address unmet needs. In addition, the Working Group is required to submit a report to the Secretary and Congress on their findings and any recommendations for improving the federal response to tick-borne disease prevention, treatment and research, and addressing gaps in those areas.

Dated: June 22, 2018.
James Berger,
Designated Federal Officer, Office of HIV/AIDS and Infectious Disease Policy, Tick-Borne Disease Working Group.

[FR Doc. 2018-13812 Filed 6-26-18; 8:45 am]

BILLING CODE 4150-28-P